DEPARTMENT OF TRANSPORTATION

Federal Aviation Administration

Notice of Intent To Rule on Application 02-06-C-00-MSP To Impose and Use the Revenue From a Passenger Facility Charge (PFC) at Minneapolis-St. Paul International Airport, Minneapolis, MN

AGENCY: Federal Aviation Administration (FAA), DOT.

ACTION: Notice of intent to rule on application.

SUMMARY: The FAA proposes to rule and invites public comment on the application to impose and use the revenue from a PFC at Minneapolis-St. Paul International Airport under the provisions of the 49 U.S.C. 40117 and part 158 of the Federal Aviation Regulations (14 CFR part 158).

DATES: Comments must be received on or before December 26, 2002.

ADDRESSES: Comments on this application may be mailed or delivered in triplicate to the FAA at the following address: Federal Aviation Administration, Minneapolis Airports District Office, 6020 28th Avenue South, Room 102, Minneapolis, Minnesota 55450-2706.

In addition, one copy of any comments submitted to the FAA must be mailed or delivered to Mr. Jeffrey W. Hamiel, Executive Director of the Metropolitan Airports Commission at the following address: Metropolitan Airports Commission, 6040 28th Avenue South, Minneapolis, Minnesota 55450. Air carriers and foreign air carriers may submit copies of written comments previously provided to the Metropolitan Airports Commission under section 158.23 of part 158.

FOR FURTHER INFORMATION CONTACT: Mr. Gordon Nelson, Program Manager, Federal Aviation Administration, Airports District Office, 6020 28th Avenue South, Room 102, Minneapolis, Minnesota 55450-2706, telephone (612) 713-4358. The application may be reviewed in person at this same location.

SUPPLEMENTARY INFORMATION: The FAA proposes to rule and invites public comment on the application to impose and use the revenue from a PFC at Minneapolis-St. Paul International Airport under the provisions of the 49 U.S.C. 40117 and part 158 of the Federal Aviation Regulations (14 CFR part 158). On October 28, 2002, the FAA determined that the application to impose and use the revenue from a PFC submitted by Metropolitan Airports Commission was substantially complete within the requirements of section 158.25 of part 158. The FAA will approve or disapprove the application, in whole or in part, no later than January 25, 2003.

The following is a brief overview of the application.

Proposed charge effective date: April 1, 2003.

Proposed charge expiration date: October 1, 2017.

Level of the proposed PFC: $3.00.

Total estimated PFC revenue: $94,832,543.

Brief description of proposed projects: (Impose and Use Projects) Runway 12R/30L temporary extension; runway 4/22 property acquisition; airside bituminous construction—2001; pavement rehabilitation—apron/taxiway; miscellaneous airfield construction; taxiway A/H reconstruction; Green/Gold connector bag belt; Green/Gold connector ticket counter/bag check; security fence/gate replacements; maintenance facility addition.

(Impose Only Project) Concourse F expansion.

Level of the proposed PFC: $4.50.

Total estimated PFC revenue: $1,121,378,685.

Brief description of proposed projects: (Impose and Use Projects) Runway 12L deicing pad; runway 12R deicing pad; buildings demolition; taxiway B construction; runway 17/35 site preparation and utility installation (including wetland mitigation, concrete paving, storm sewer and storm water pond construction); runway 17/35 site demolition (on and off airport); runway 17/35 runways, taxiways, taxilanes, and connectors (including runway 17 deicing pad); runway 17/35 airfield service road; runways 17/35 and 4/22 tunnels; taxiway W-Y/Y-3 tunnels; tenant lease extinguishment; deicing agent processing facility; airfield material and equipment storage facilities; property acquisition (for runway 17/35); program planning/management costs; residential noise insulation; Green concourse (Concourse C) expansion (Phases 1 and 2); Green Concourse apron expansion (including runway 30R deicing pad); Green/Gold connector; Green Concourse automated people mover; Humphrey terminal hydrant fueling system.

(Impose Only Project) fire/rescue replacement facility. Class or classes of air carriers, which the public agency has requested, not be required to collect PFCs: Air Taxi/Commercial Operators (ATCO) filing FAA Form 1800-31. Any person may inspect the application in person at the FAA office listed above under FOR FURTHER INFORMATION CONTACT. In addition, any person may, upon request, inspect the application, notice and other documents germane to the application in person at the Metropolitan Airports Commission.

Issued in Des Plaines, Illinois, on November 1, 2002.
Robert Benko,
Acting Manager, Airports Planning/Programming Branch, Airports Division, Great Lakes Region.

[FR Doc. 02-29901 Filed 11-22-02; 8:45 am]

BILLING CODE 4910-13-M